FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 31, 2005.

A. Federal Reserve Bank of Richmond (A. Linwood Gill, III, Vice President) 701 East Byrd Street, Richmond, Virginia 23261-4528:

1. Raymond Thomas Arnold, South Hill, Virginia, individually and together with the following members of his immediate family: Janice B. Arnold, South Hill, Virginia; Julie Arnold Witten, Chase City, Virginia; Darren Whitten, Richmond, Virginia; Sheri Arnold Sparkman and Michael R. Sparkman, both of South Hill, Virginia; to acquire additional voting shares of Citizens Community Bank, South Hill, Virginia.

B. Federal Reserve Bank of St. Louis (Glenda Wilson, Community Affairs Officer) 411 Locust Street, St. Louis, Missouri 63166-2034:

1. Larry Hellrung and Patricia A. Hellrung, both of Alton, Illinois; to retain voting shares of Liberty Bancshares, Inc., Alton, Illinois, and thereby indirectly retain voting shares of Liberty Bank, Alton, Illinois.

C. Federal Reserve Bank of Dallas (W. Arthur Tribble, Vice President) 2200 North Pearl Street, Dallas, Texas 75201-2272:

1. Rodney A. Abrams, Northbrook, Illinois; the 2003 Abrams Family Trust, Richard W. Hillsberg, trustee, Buffalo Grove, Illinois; Funeral Financial Services, Ltd., Northfield, Illinois; Mortuary Financial Services, Inc., Richardson, Texas; Richard N. Abrams, Fort Worth, Texas; Karen Abrams Fox, Northbrook, Illinois; Jodie Abrams Engfer, North Oaks, Minnesota; and Beverly Adams, Highland Park, Illinois, to acquire voting shares of Surety Capital Corporation, Fort Worth, Texas, and indirectly acquire voting shares of Surety Bank, National Association, Fort Worth, Texas.

Board of Governors of the Federal Reserve System, May 11, 2005.
Robert deV. Frierson,
Deputy Secretary of the Board.

[FR Doc. 05-9746 Filed 5-16-05; 8:45 am]

BILLING CODE 6210-01-S